DEPARTMENT OF HOMELAND SECURITY

Federal Emergency Management Agency

44 CFR Part 64

[Docket ID FEMA-2012-0003; Internal Agency Docket No. FEMA-8253]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Ashley, Borough of, Luzerne County | 420596 | December 13, 1974, Emerg; September 30, 1980, Reg; November 2, 2012, Susp. | Nov. 2, 2012 | Nov. 2, 2012
Avoca, Borough of, Luzerne County | 420597 | March 7, 1975, Emerg; July 16, 1981, Reg; November 2, 2012, Susp. | do* | Do.
Bear Creek, Township of, Luzerne County | 421136 | March 12, 1974, Emerg; September 29, 1978, Reg; November 2, 2012, Susp. | do | Do.
Bear Creek Village, Borough of, Luzerne County | 422756 | N/A, Emerg; July 26, 2002, Reg; November 2, 2012, Susp. | do | Do.
Black Creek, Township of, Luzerne County | 420598 | March 9, 1973, Emerg; September 3, 1980, Reg; November 2, 2012, Susp. | do | Do.
Buck, Township of, Luzerne County | 421824 | February 17, 1976, Emerg; April 15, 1981, Reg; November 2, 2012, Susp. | do | Do.
Butler, Township of, Luzerne County | 420599 | August 16, 1973, Emerg; December 16, 1980, Reg; November 2, 2012, Susp. | do | Do.
Conyngham, Borough of, Luzerne County | 420992 | August 24, 1973, Emerg; July 16, 1980, Reg; November 2, 2012, Susp. | do | Do.
Conyngham, Township of, Luzerne County | 420600 | February 9, 1973, Emerg; February 16, 1977, Reg; November 2, 2012, Susp. | do | Do.
Courtdale, Borough of, Luzerne County | 420601 | May 1, 1973, Emerg; June 1, 1979, Reg; November 2, 2012, Susp. | do | Do.
Dallas, Borough of, Luzerne County | 421825 | April 15, 1974, Emerg; January 2, 1981, Reg; November 2, 2012, Susp. | do | Do.
Dallas, Township of, Luzerne County | 420602 | September 5, 1973, Emerg; April 1, 1988, Reg; November 2, 2012, Susp. | do | Do.
Dupont, Borough of, Luzerne County | 422250 | July 29, 1974, Emerg; June 15, 1981, Reg; November 2, 2012, Susp. | do | Do.
Duryea, Borough of, Luzerne County | 420603 | January 12, 1973, Emerg; June 18, 1980, Reg; November 2, 2012, Susp. | do | Do.
Edwardsville, Borough of, Luzerne County | 420604 | December 1, 1972, Emerg; April 15, 1977, Reg; November 2, 2012, Susp. | do | Do.
Exeter, Township of, Luzerne County | 420606 | January 19, 1973, Emerg; September 15, 1983, Reg; November 2, 2012, Susp. | do | Do.
Fairmount, Township of, Luzerne County | 421827 | February 9, 1976, Emerg; April 1, 1981, Reg; November 2, 2012, Susp. | do | Do.
Fairview, Township of, Luzerne County | 420993 | January 23, 1974, Emerg; June 1, 1979, Reg; November 2, 2012, Susp. | do | Do.
Forty Fort, Borough of, Luzerne County | 420607 | November 3, 1972, Emerg; April 1, 1977, Reg; November 2, 2012, Susp. | do | Do.
Hanover, Township of, Luzerne County | 420608 | October 20, 1972, Emerg; May 16, 1977, Reg; November 2, 2012, Susp. | do | Do.
Hollenback, Township of, Luzerne County | 421831 | September 30, 1975, Emerg; September 17, 1980, Reg; November 2, 2012, Susp. | do | Do.
Hunlock, Township of, Luzerne County | 420994 | November 5, 1973, Emerg; April 1, 1980, Reg; November 2, 2012, Susp. | do | Do.
Huntington, Township of, Luzerne County | 421832 | July 2, 1974, Emerg; April 15, 1981, Reg; November 2, 2012, Susp. | do | Do.
Jackson, Township of, Luzerne County | 420610 | March 16, 1973, Emerg; September 17, 1980, Reg; November 2, 2012, Susp. | do | Do.
Jenkins, Township of, Luzerne County | 420611 | February 2, 1973, Emerg; May 16, 1977, Reg; November 2, 2012, Susp. | do | Do.
Kingston, Borough of, Luzerne County | 420612 | October 6, 1972, Emerg; June 1, 1977, Reg; November 2, 2012, Susp. | do | Do.
Kingston, Township of, Luzerne County | 420613 | December 22, 1972, Emerg; January 2, 1981, Reg; November 2, 2012, Susp. | do | Do.
Laflin, Borough of, Luzerne County | 420995 | October 4, 1973, Emerg; December 2, 1980, Reg; November 2, 2012, Susp. | do | Do.
Lake, Township of, Luzerne County | 421833 | October 24, 1975, Emerg; September 3, 1980, Reg; November 2, 2012, Susp. | do | Do.
Larksville, Borough of, Luzerne County | 420614 | March 23, 1973, Emerg; April 1, 1977, Reg; November 2, 2012, Susp. | do | Do.
Lehman, Township of, Luzerne County | 420615 | July 10, 1973, Emerg; December 2, 1980, Reg; November 2, 2012, Susp. | do | Do.
Luzerne, Borough of, Luzerne County | 420616 | March 2, 1973, Emerg; April 15, 1977, Reg; November 2, 2012, Susp. | do | Do.
Nanticoke, City of, Luzerne County | 420617 | April 4, 1973, Emerg; April 15, 1977, Reg; November 2, 2012, Susp. | do | Do.
Nescopeck, Borough of, Luzerne County | 420618 | April 16, 1973, Emerg; February 1, 1980, Reg; November 2, 2012, Susp. | do | Do.
Nescopeck, Township of, Luzerne County | 420619 | March 2, 1973, Emerg; August 1, 1980, Reg; November 2, 2012, Susp. | do | Do.
New Columbus, Borough of, Luzerne County | 421819 | July 9, 1975, Emerg; March 16, 1981, Reg; November 2, 2012, Susp. | do | Do.
Newport, Township of, Luzerne County | 421822 | December 17, 1975, Emerg; December 2, 1980, Reg; November 2, 2012, Susp. | do | Do.
Nuangola, Borough of, Luzerne County | 422272 | October 15, 1975, Emerg; September 28, 1979, Reg; November 2, 2012, Susp. | do | Do.
Penn Lake Park, Borough of, Luzerne County | 422645 | July 12, 1976, Emerg; December 5, 1980, Reg; November 2, 2012, Susp. | do | Do.
Pittston, City of, Luzerne County | 420620 | April 17, 1973, Emerg; May 2, 1977, Reg; November 2, 2012, Susp. | do | Do.
Plymouth, Borough of, Luzerne County | 420622 | October 27, 1972, Emerg; April 1, 1977, Reg; November 2, 2012, Susp. | do | Do.
Plymouth, Township of, Luzerne County | 420623 | February 2, 1973, Emerg; April 15, 1977, Reg; November 2, 2012, Susp. | do | Do.
Pringle, Borough of, Luzerne County | 420624 | January 19, 1973, Emerg; May 2, 1977, Reg; November 2, 2012, Susp. | do | Do.
Rice, Township of, Luzerne County | 420996 | December 6, 1973, Emerg; January 2, 1981, Reg; November 2, 2012, Susp. | do | Do.
Ross, Township of, Luzerne County | 421835 | February 9, 1976, Emerg; April 15, 1981, Reg; November 2, 2012, Susp. | do | Do.
Salem, Township of, Luzerne County | 420625 | May 23, 1973, Emerg; March 18, 1980, Reg; November 2, 2012, Susp. | do | Do.
Shickshinny, Borough of, Luzerne County | 420626 | December 15, 1972, Emerg; December 31, 1976, Reg; November 2, 2012, Susp. | do | Do.
Union, Township of, Luzerne County | 421836 | February 18, 1976, Emerg; September 30, 1980, Reg; November 2, 2012, Susp. | do | Do.
West Hazleton, Borough of, Luzerne County | 421821 | June 6, 1974, Emerg; July 31, 1978, Reg; November 2, 2012, Susp. | do | Do.
West Pittston, Borough of, Luzerne County | 420628 | November 24, 1972, Emerg; April 15, 1977, Reg; November 2, 2012, Susp. | do | Do.
White Haven, Borough of, Luzerne County | 420630 | April 4, 1973, Emerg; August 1, 1977, Reg; November 2, 2012, Susp. | do | Do.
Wilkes-Barre, City of, Luzerne County | 420631 | December 10, 1971, Emerg; September 30, 1977, Reg; November 2, 2012, Susp. | do | Do.
Wilkes-Barre, Township of, Luzerne County | 421823 | August 13, 1974, Emerg; December 2, 1980, Reg; November 2, 2012, Susp. | do | Do.
Wright, Township of, Luzerne County | 420632 | May 10, 1973, Emerg; January 16, 1981, Reg; November 2, 2012, Susp. | do | Do.
Wyoming, Borough of, Luzerne County | 420633 | November 3, 1972, Emerg; November 16, 1977, Reg; November 2, 2012, Susp. | .do | Do.
Region IV
Florida:
Bronson, Town of, Levy County | 120582 | April 11, 1980, Emerg; February 1, 1987, Reg; November 2, 2012, Susp. | do | Do.
Cedar Key, City of, Levy County | 120373 | August 6, 1975, Emerg; March 1, 1984, Reg; November 2, 2012, Susp. | do
Inglis, Town of, Levy County | 120586 | January 10, 1986, Emerg; January 10, 1986, Reg; November 2, 2012, Susp. | do | Do.
Levy County, Unincorporated Areas | 120145 | November 13, 1970, Emerg; March 1, 1984, Reg; November 2, 2012, Susp. | do | Do.
Otter Creek, Town of, Levy County | 120592 | February 8, 2005, Emerg; September 1, 2005, Reg; November 2, 2012, Susp. | do | Do.
Yankeetown, Town of, Levy County | 120147 | November 13, 1970, Emerg; August 20, 1971, Reg; November 2, 2012, Susp. | do | Do.
Georgia:
Cobb County, Unincorporated Areas | 130052 | June 12, 1973, Emerg; January 3, 1979, Reg; November 2, 2012, Susp. | do | Do.
Marietta, City of, Cobb County | 130226 | September 5, 1974, Emerg; February 15, 1978, Reg; November 2, 2012, Susp. | do | Do.
Region V
Indiana:
Batesville, City of, Ripley County | 180507 | N/A, Emerg; March 9, 2010, Reg; November 2, 2012, Susp. | do | Do.
Ripley County, Unincorporated Areas | 180221 | February 11, 1976, Emerg; September 1, 1987, Reg; November 2, 2012, Susp. | do | Do.
Wisconsin:
Chaseburg, Village of, Vernon County | 550451 | August 25, 1975, Emerg; February 4, 1981, Reg; November 2, 2012, Susp. | do | Do.
Coon Valley, Village of, Vernon County | 550452 | April 7, 1975, Emerg; February 4, 1981, Reg; November 2, 2012, Susp. | do | Do.
De Soto, Village of, Vernon County | 550069 | December 15, 1980, Emerg; January 16, 1981, Reg; November 2, 2012, Susp. | do | Do.
Genoa, Village of, Vernon County | 555556 | May 7, 1971, Emerg; February 26, 1972, Reg; November 2, 2012, Susp. | do | Do.
Ontario, Village of, Vernon County | 550457 | August 16, 1978, Emerg; N/A, Reg; November 2, 2012, Susp. | do | Do.
Readstown, Village of, Vernon County | 550458 | April 30, 1971, Emerg; March 16, 1976, Reg; November 2, 2012, Susp. | do | Do.
Stoddard, Village of, Vernon County | 555582 | April 23, 1971, Emerg; October 20, 1972, Reg; November 2, 2012, Susp. | do | Do.
Vernon County, Unincorporated Areas | 550450 | September 1, 1972, Emerg; September 29, 1978, Reg; November 2, 2012, Susp. | do | Do.
Viola, Village of, Vernon County | 550460 | December 5, 1974, Emerg; June 4, 1990, Reg; November 2, 2012, Susp. | do | Do.
Region VII
Missouri:
Carl Junction, City of, Jasper County | 290179 | October 28, 1975, Emerg; June 1, 1982, Reg; November 2, 2012, Susp. | do | Do.
Carterville, City of, Jasper County | 290180 | January 17, 1977, Emerg; July 16, 1984, Reg; November 2, 2012, Susp. | do | Do.
Cole County, Unincorporated Areas | 290107 | January 21, 1982, Emerg; January 21, 1982, Reg; November 2, 2012, Susp. | do | Do.
Duenweg, City of, Jasper County | 290182 | N/A, Emerg; April 1, 2004, Reg; November 2, 2012, Susp. | do | Do.
Jasper County, Unincorporated Areas | 290807 | May 15, 1987, Emerg; May 15, 1987, Reg; November 2, 2012, Susp. | do | Do.
Jefferson City, City of, Cole County | 290108 | April 23, 1971, Emerg; April 15, 1980, Reg; November 2, 2012, Susp. | do | Do.
Sarcoxie, City of, Jasper County | 290186 | May 29, 1974, Emerg; July 16, 1979, Reg; November 2, 2012, Susp. | do | Do.
Webb City, City of, Jasper County | 290187 | May 19, 1975, Emerg; June 1, 1982, Reg; November 2, 2012, Susp. | do | Do.
Region VIII
North Dakota:
Grafton, City of, Walsh County | 380137 | January 17, 1975, Emerg; January 16, 1981, Reg; November 2, 2012, Susp. | do | Do.
Minto, City of, Walsh County | 380138 | June 27, 1975, Emerg; January 16, 1981, Reg; November 2, 2012, Susp. | do | Do.
Park River, City of, Walsh County | 380139 | February 3, 1975, Emerg; May 1, 1980, Reg; November 2, 2012, Susp. | do | Do.
Walsh County, Unincorporated Areas | 380135 | March 28, 1978, Emerg; May 1, 1986, Reg; November 2, 2012, Susp. | do | Do.
*-do- = Ditto.
Code for reading third column: Emerg.—Emergency; Reg.—Regular; Susp.—Suspension.

Dated: October 17, 2012.
David L. Miller,
Associate Administrator, Federal Insurance and Mitigation Administration, Department of Homeland Security, Federal Emergency Management Agency.

[FR Doc. 2012-27159 Filed 11-6-12; 8:45 am]

BILLING CODE 9110-12-P